DEPARTMENT OF COMMERCE

National Oceanic and Atmospheric Administration

RIN 0648-XE554

Magnuson-Stevens Act Provisions; General Provisions for Domestic Fisheries; Application for Exempted Fishing Permits

AGENCY: National Marine Fisheries Service (NMFS), National Oceanic and Atmospheric Administration (NOAA), Commerce.

ACTION: Notice; request for comments.

SUMMARY: The Assistant Regional Administrator for Sustainable Fisheries, Greater Atlantic Region, NMFS, has made a preliminary determination that an Exempted Fishing Permit application contains all of the required information and warrants further consideration. This Exempted Fishing Permit would allow one commercial fishing vessel to fish outside of the limited access scallop regulations in support of research conducted by the National Fisheries Institute that is investigating scallop incidental mortality in the scallop dredge fishery.

Regulations under the Magnuson-Stevens Fishery Conservation and Management Act require publication of this notification to provide interested parties the opportunity to comment on applications for proposed Exempted Fishing Permits.

DATES: Comments must be received on or before April 20, 2016.

ADDRESSES: You may submit written comments by any of the following methods:

• Email: nmfs.gar.efp@noaa.gov. Include in the subject line “Comments on DA16-013 NFI Incidental Discard Mortality EFP.”

• Mail: John K. Bullard, Regional Administrator, NMFS, Greater Atlantic Regional Fisheries Office, 55 Great Republic Drive, Gloucester, MA 01930. Mark the outside of the envelope “Comments on DA16-013 NFI Incidental Discard Mortality EFP.”

• Fax: (978) 281-9135.

FOR FURTHER INFORMATION CONTACT: Shannah Jaburek, Fisheries Management Specialist, 978-282-8456.

SUPPLEMENTARY INFORMATION: NOAA awarded the National Fisheries Institue (NFI) a grant through the 2014 Atlantic sea scallop research set-aside program in support of a project titled, “Determining Incidental Discard Mortality of Atlantic Sea Scallops, Placopecten magellanicus, in the Scallop Dredge Fishery in the Mid-Atlantic Bight.” NMFS issued the National Fisheries Institute (NFI) an Exempted Fishing Permit (EFP) on April 30, 2015, to complete the project. On February 16, 2016, NMFS received a request to authorize participating vessels to perform an additional 20 tows over the course of two limited access Atlantic sea scallop days-at-sea (DAS). NFI is requesting exemptions that would allow one commercial fishing vessel to fish outside of the DAS regulations found at 50 CFR 648.53(b); mesh size restrictions at § 648.51(a)(2); obstruction in dredge gear restrictions at § 648.51(b)(4)(iii); and the crew size regulations at § 648.51(c). In addition, the EFP would temporarily exempt the participating vessel from possession limits and minimum size requirements specified in 50 CFR part 648, subsections B and D through O, for sampling purposes only. Any fishing activity conducted outside the scope of the exempted fishing activity would be prohibited.

The project would conduct dredging activities to assess the incidental mortality of scallops passing through the 4-inch (10.16-cm) rings of a 12-foot (4.57-m) Turtle Deflector Dredge on sandy and hard (gravel) substrates. Dredging would be conducted over approximately two DAS during the proposed period of May 2016 through June 2016. All dredging would occur in open access scallop fishing areas off the coast of New Jersey. A total of 20 scallop tows would be conducted (10 tows per substrate). Each tow would be made at depths of 18 to 25 fathoms (32.92 to 45.72 m) for a duration of 40 minutes. The scallop vessel would fish two dredges simultaneously. One dredge would use an experimental net bag cover and the other would fish with an industry standard 12-foot (4.57-m) turtle excluder dredge. The experimental cover is constructed of 1⅞-inch (4.76-cm) mesh and sewn into the top of the dredge apron. The bag can be dumped independently of the 4-inch (10.16-cm) ring bag to collect the scallops and other organisms that pass through the 4-inch (10.16-cm) rings. The dredge configurations would be switched to the opposite side after five tows for each substrate.

All scallops that filter through the 4-inch (10.16-cm) rings and into the mesh bag would be measured for shell height and assessed for damage to the shell in one of three categories: Not injured; sub-lethal (repairable); or lethal (non-repairable). After all scallops are assessed, they would be returned to the ocean bottom as soon as practicable. The researchers would then use this information to estimate the proportion of scallops in each injury category. The weight of scallop catch retained in the 4-inch (10.16-cm) ring bags of both dredges would be estimated by the captain. Researchers would take shell measurements of a subsample of 50 scallops per tow per dredge to determine size selectivity within each dredge. All other bycatch in the experimental net bag would be sorted, the captain would estimate the weights, and researchers would measure a minimum of 25 lengths per individual species. No catch would be landed for sale.

If approved, the applicant may request minor modifications and extensions to the EFP throughout the year. EFP modifications and extensions may be granted without further notice if they are deemed essential to facilitate completion of the proposed research and have minimal impacts that do not change the scope or impact of the initially approved EFP request. Any fishing activity conducted outside the scope of the exempted fishing activity would be prohibited.

Authority: 16 U.S.C. 1801 et seq.

Dated: March 31, 2016.
Alan D. Risenhoover,
Director, Office of Sustainable Fisheries, National Marine Fisheries Service.

[FR Doc. 2016-07733 Filed 4-4-16; 8:45 am]

BILLING CODE 3510-22-P